DEPARTMENT OF JUSTICE

Executive Office for Immigration Review

Notice of Meeting—EOIR Case & Appeals System; Immigration Court Online Resource

AGENCY: Executive Office for Immigration Review, Justice.

ACTION: Notice of meeting.

SUMMARY: The Executive Office for Immigration Review (“EOIR”) invites interested parties to attend the first of a series of public forums about its Access EOIR initiative. During the session, agency senior leadership will be available to listen to comments, compliments, and concerns from stakeholders regarding two of EOIR's web-based initiatives: EOIR Courts & Appeals System (“ECAS”), and Immigration Court Online Resource (“ICOR”).

DATES: The public forum will be held on Wednesday, March 30, 2022, from 2:00-3:00 p.m. EDT (ECAS session) and from 3:00-4:00 p.m. EDT (ICOR session).

ADDRESSES: The public forum will be held online via GoToWebinar. Please RSVP to EngagewithEOIR@usdoj.gov by 5:00 p.m. EDT on March 28, 2022, with the name(s) of the attendee(s), any relevant organization, and a valid email address.

FOR FURTHER INFORMATION CONTACT: Lauren Alder Reid, Assistant Director, Office of Policy, Executive Office for Immigration Review, 5107 Leesburg Pike, Falls Church, VA 22041, telephone (703) 305-0289.

I. Background

EOIR is hosting the first of a series of public engagement sessions regarding the Access EOIR Initiative. See Executive Office for Immigration Review, EOIR Announces “Access EOIR” Initiative: Agency Launches New Counsel and Training Programs (Sept. 28, 2021), available at https://www.justice.gov/eoir/pr/eoir-announces-access-eoir-initiative. Access EOIR is intended to improve access to pertinent information and resources for respondents and practitioners appearing before the immigration courts and general information of interest to the public. Two efforts of the initiative will be the focus of the online public forum on March 30, 2022.

The first effort that will be addressed is ECAS, which is part of an overarching information technology modernization effort at EOIR. ECAS was first introduced in July 2018 to phase out paper filing and processing and to retain all records and case-related documents in electronic format. ECAS supports the full life cycle of immigration cases including: Electronic filing of court and appeals documents, processing and receiving filings, maintaining electronic Records of Proceedings (eROPs), preparing case information, conducting a hearing, and adjudicating appeals. ECAS is now fully implemented at all immigration courts and adjudication centers and at the Board of Immigration Appeals, and as of February 11, 2022, DHS and all attorneys and fully accredited representatives are required to electronically file documents in all cases eligible for electronic filing. 8 CFR 1003.2(g)(4), 1003.31(a); see also Executive Office for Immigration Review Electronic Case Access and Filing, 86 FR 70708 (Dec. 13, 2021) (final rule implementing mandatory electronic filing in eligible cases).

The second system that will be addressed is ICOR, which is a web-based and mobile friendly tool that provides respondents, practitioners, and other interested parties with a centralized location for resources pertaining to immigration proceedings before EOIR. ICOR provides information to help respondents learn about and prepare for immigration proceedings, including a tool to access general information about the forms of relief and protection from removal. ICOR also provides information for practitioners, including information on practice before EOIR's adjudicators. Currently, ICOR is available in English, Spanish, Chinese, Haitian Creole, Portuguese, and Punjabi.

II. Agenda

From 2:00-3:00 p.m. EDT on March 30, 2022, members of the public are invited to provide feedback on ECAS and its recent implementation nationwide. Feedback that would be most useful to the agency would include comments—either positive or negative—related to the ECAS user experience, along with any suggestions for improvements to ECAS now that its functionalities have been fully implemented.

From 3:00-4:00 p.m. EDT on March 30, 2022, members of the public are invited to provide feedback on ICOR. The agency similarly welcomes all feedback from the public, whether positive or negative, regarding the utility and functionality of ICOR, along with any suggestions for changes or improvements to ICOR.

Public Participation

This meeting is open to all members of the public who RSVP to EngagewithEOIR@usdoj.gov by 5:00 p.m. EDT on March 28, 2022, with the name(s) of the attendee(s), any relevant organization, and a valid email address. EOIR will send webinar information and an agenda to those who RSVP. Attendance for this program will be limited to 500 participants.

In addition, EOIR welcomes written feedback from the public on these topics. Written submissions are due no later than 5:00 p.m. EDT on Friday, April 29, 2022.

All media inquiries should be directed to the Communications and Legislative Affairs Division at pao.eoir@usdoj.gov.

Lauren Alder Reid,
Assistant Director, Office of Policy, Executive Office for Immigration Review.

[FR Doc. 2022-06357 Filed 3-25-22; 8:45 am]

BILLING CODE P